DEPARTMENT OF TRANSPORTATION

Surface Transportation Board

[STB Docket No. AB-1033X]

Murray-Calloway Economic Development Corporation—Abandonment Exemption—in Marshall and Calloway Counties, KY

Murray-Calloway Economic Development Corporation (EDC) has filed a notice of exemption under 49 CFR Part 1152 Subpart F—Exempt Abandonments to abandon a 7.34-mile line of railroad between milepost 30, near Hardin, Marshall County, KY, and milepost 37.34, near Murray, Calloway County, KY. The line traverses United States Postal Service Zip Codes 42020, 42036, 42048, and 42071.¹

¹ EDC acquired the line from Hardin Southern Railroad in Murray-Calloway Economic Development Corporation—Acquisition Exemption-Hardin Southern Railroad, Inc., STB Finance Docket No. 34742 (STB served Sept. 7, 2005). EDC has not operated service over the line and its remaining line is currently leased to another operator.

EDC has certified that: (1) No local traffic has moved over the line for at least 2 years; (2) there has been no overhead traffic on the line since EDC acquired it in 2005, and any previous overhead traffic has been rerouted; (3) no formal complaint filed by a user of rail service on the line (or by a state or local government entity acting on behalf of such user) regarding cessation of service over the line either is pending with the Surface Transportation Board or with any U.S. District Court or has been decided in favor of complainant within the 2-year period; and (4) the requirements at 49 CFR 1105.7 (environmental report), 49 CFR 1105.8 (historic report), 49 CFR 1105.11 (transmittal letter), 49 CFR 1105.12 (newspaper publication), and 49 CFR 1152.50(d)(1) (notice to governmental agencies) have been met.

As a condition to this exemption, any employee adversely affected by the abandonment shall be protected under Oregon Short Line R. Co.—Abandonment—Goshen, 360 I.C.C. 91 (1979). To address whether this condition adequately protects affected employees, a petition for partial revocation under 49 U.S.C. 10502(d) must be filed.

Provided no formal expression of intent to file an offer of financial assistance (OFA) has been received, this exemption will be effective on May 22, 2009, unless stayed pending reconsideration.² Petitions to stay that do not involve environmental issues,³ formal expressions of intent to file an OFA under 49 CFR 1152.27(c)(2),⁴ and trail use/rail banking requests under 49 CFR 1152.29 must be filed by May 4, 2009. Petitions to reopen or requests for public use conditions under 49 CFR 1152.28 must be filed by May 12, 2009, with: Surface Transportation Board, 395 E Street, SW., Washington, DC 20423-0001.

² ESC originally indicated that it would consummate the abandonment on or after May 21, 2009. But counsel for EDC has been notified that the earliest this transaction may be consummated is May 22, 2009.

³ The Board will grant a stay if an informed decision on environmental issues (whether raised by a party or by the Board's Section of Environmental Analysis (SEA) in its independent investigation) cannot be made before the exemption's effective date. See Exemption of Out-of-Service Rail Lines, 5 I.C.C.2d 377 (1989). Any request for a stay should be filed as soon as possible so that the Board may take appropriate action before the exemption's effective date.

⁴ Each OFA must be accompanied by the filing fee, which currently is set at $1,500. See 49 CFR 1002.2(f)(25).

A copy of any petition filed with the Board should be sent to EDC's representative: Eric M. Hocky, Thorp, Reed & Armstrong, LLP, One Commerce Square, 2005 Market Street, Suite 1910, Philadelphia, PA 19103.

If the verified notice contains false or misleading information, the exemption is void ab initio.

EDC has filed a combined environmental and historic report addressing the effects, if any, of the abandonment on the environment and historic resources. SEA will issue an environmental assessment (EA) by April 27, 2009. Interested persons may obtain a copy of the EA by writing to SEA (Room 1100, Surface Transportation Board, Washington, DC 20423-0001) or by calling SEA at (202) 245-0305. [Assistance for the hearing impaired is available through the Federal Information Relay Service (FIRS) at 1-800-877-8339.] Comments on environmental and historic preservation matters must be filed within 15 days after the EA becomes available to the public.

Environmental, historic preservation, public use, or trail use/rail banking conditions will be imposed, where appropriate, in a subsequent decision.

Pursuant to the provisions of 49 CFR 1152.29(e)(2), EDC shall file a notice of consummation with the Board to signify that it has exercised the authority granted and fully abandoned the line. If consummation has not been effected by EDC's filing of a notice of consummation by April 22, 2010, and there are no legal or regulatory barriers to consummation, the authority to abandon will automatically expire.

Board decisions and notices are available on our Web site at http://www.stb.dot.gov.

Decided: April 10, 2009.
By the Board, Joseph H. Dettmar, Acting Director, Office of Proceedings.
Jeffrey Herzig,
Clearance Clerk.

[FR Doc. E9-8855 Filed 4-21-09; 8:45 am]

BILLING CODE 4915-01-P